EQUAL EMPLOYMENT OPPORTUNITY COMMISSION

Agency Information Collection Activities: Existing Collection

AGENCY: Equal Employment Opportunity Commission.

ACTION: Notice of Information Collection—Extension without change of a currently approved collection Elementary-Secondary Staff Information Report (EEO-5) and request for comments.

SUMMARY: In accordance with the Paperwork Reduction Act of 1995 (PRA), the Equal Employment Opportunity Commission (EEOC or Commission) announces that it is submitting to the Office of Management and Budget (OMB) a request for a three-year extension without change of the Elementary-Secondary Staff Information Report (EEO-5) (EEOC Form 168A) as described below.

DATES: Written comments on this notice are encouraged and must be submitted on or before April 12, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Rashida Dorsey, Employer Data Team, Data Development and Information Products Division, Equal Employment Opportunity Commission, 131 M Street NE, Room 4SW32J, Washington, DC 20507; (202) 663-4355 (voice), (202) 663-7063 (TTY) or email at rashida.dorsey@eeoc.gov.

SUPPLEMENTARY INFORMATION: A notice that EEOC would be submitting this request was published in the Federal Register on November 19, 2020, allowing for a 60-day public comment period. One comment was received from the public; however, it did not address the EEO-5 information collection. Accordingly, no changes have been made to the EEO-5 collection based upon the unresponsive comment.

Overview of Information Collection

Collection Title: Elementary-Secondary Staff Information Report (EEO-5).

OMB Number: 3046-0003.

Frequency of Report: Biennial, even years.

Type of Respondent: Public elementary and secondary school districts with 100 or more employees within the 50 U.S. states and District of Columbia.

Description of Affected Public: Public elementary and secondary school districts with 100 or more employees within the 50 U.S. states and District of Columbia.

Responses: 7,082 per biennial collection.

Reporting Hours: 120,901.07 per biennial collection.

Burden Hour Cost: $4,055,001.76 per biennial collection.

Federal Cost: $240,120.85 per biennial collection.

Number of Forms: 1.

Form Number: EEOC Form 168A.

Abstract: Section 709(c) of Title VII of the Civil Rights Act of 1964, as amended, 42 U.S.C. 2000e-8(c), requires employers to make and keep records relevant to a determination of whether unlawful employment practices have been or are being committed, to preserve such records, and to produce reports as the Commission prescribes by regulation or order. Accordingly, the EEOC issued regulations, 29 CFR 1602.39 and .41-.45, prescribing the reporting and related record retention requirements for public elementary and secondary school districts. 29 CFR 1602.39 requires school districts to make or keep all records necessary for completion of an EEO-5 submission and retain those records for three years. 29 CFR 1602.41 requires EEO-5 filers to retain a copy of each filed EEO-5 report for three years. These requirements are related to recordkeeping which is part of standard administrative practices, and as a result, the EEOC believes that any impact on burden would be negligible and nearly impossible to quantify. Public elementary and secondary school districts with 100 or more employees within the 50 U.S. states and District of Columbia were required to submit EEO-5 reports annually from 1974 to 1981 and then biennially in even years from 1982 to the present. The individual reports are confidential. The EEOC uses EEO-5 data to investigate charges of employment discrimination against public elementary and secondary school districts. The EEO-5 data are also used for research. EEO-5 reports are shared with the Department of Education (Office for Civil Rights) and the Department of Justice.

Burden Statement: The EEOC has updated its methodology for calculating annual burden to reflect the different staff responsible for preparing and filing the EEO-5. The EEOC's revised burden estimate reflects that the bulk of the work in biennially preparing an EEO-5 report is performed by computer support specialists, executive administrative staff, and payroll and human resource professionals; the revised estimate also includes time spent by school district finance professionals and superintendents who, in a few cases, may consult briefly during the reporting process. After accounting for the time spent by the various employees who have a role in preparing an EEO-5, the EEOC estimates that a school district will spend 17.07 hours to prepare the report and estimates that the aggregate biennial hour burden for all respondents is 120,901.07. The cost associated with the burden hours was calculated using hourly wage rates obtained from the Department of Labor ¹ for each job identified above as participating in the submission of the report; using those rates, we estimate that the burden hour cost per school district will be approximately $572.58, while the estimated total biennial burden hour cost for all 7,082 school districts will be $4,055,001.76 (See Table 1 for calculations).

¹ Median hourly wage rates were obtained from the Bureau of Labor Statistics (see U.S. Department of Labor, Bureau of Labor Statistics, Occupational Outlook Handbook, http://www/bls.gov/ooh/).

Table 1-Estimate of Biennial Burden for EEO-5 Report
School district staff | Hourly wage rate | Burden hours per district ᵃ | Burden hour cost per district | Total burden hours | Total burden hour cost
N = 7,082
Computer Support Specialist (IT Professional/Data Processing Specialist) | 26.33 | 3.43 | $90.28 | 24,281.35 | $639,327.82
Director of School Finance (Financial Managers) | 62.45 | 0.14 | 8.92 | 1,012.02 | 63,200.51
Executive Clerical Staff | 26.35 | 2.93 | 77.17 | 20,740.35 | 546,508.10
Human Resource Specialist | 29.77 | 5.43 | 161.61 | 38,445.35 | 1,144,517.93
Payroll Specialist | 19.49 | 1.43 | 27.84 | 10,117.35 | 197,187.06
Senior Human Resource Managers | 56.11 | 3.43 | 192.38 | 24,281.35 | 1,362,426.28
Superintendent (School Management Occupations) | 50.33 | 0.29 | 14.38 | 2,023.33 | 101,834.07
Total |  | 17.07 | 572.58 | 120,901.07 | 4,055,001.76
Note: Burden Hours per district were determined through interviews with a stratified heterogeneous mixture of school districts used to estimate burden, as approved in the 2018 Paperwork Reduction Act.
ᵃ Burden Hours are rounded to the tenth decimal place in this publication.

These estimates are based on the assumption of some paper reporting. During the 2018 EEO-5 filing period, the EEOC experienced a 49.8 percent increase in paper filing since the 2016 EEO-5 report filing. Despite the increase, paper filing represents 3.3 percent of total reports received in 2018. Online electronic filing remains the most popular, efficient, accurate, and secure means of reporting for respondents required to submit the EEO-5 report. The EEOC has made online electronic filing much easier for respondents required to file the EEO-5 and as a result, more respondents are using this method. Accordingly, the EEOC will continue to encourage EEO-5 filers to submit data through online electronic filing and will only accept paper records from filers who have secured permission to submit data via paper submission.

Dated: March 5, 2021.
For the Commission.
Charlotte A. Burrows,
Chair.

[FR Doc. 2021-05059 Filed 3-10-21; 8:45 am]

BILLING CODE 6570-01-P